DEPARTMENT OF THE INTERIOR

Geological Survey

[GX17EG40DW73200; OMB Control Number 1028-0111]

Agency Information Collection Activities: The National Map Corps (TNMCorps)—Volunteered Geographic Information Project

AGENCY: U.S. Geological Survey (USGS), Interior.

ACTION: Notice.

SUMMARY: In accordance with the Paperwork Reduction Act of 1995, the USGS is proposing to renew an information collection (IC).

DATES: To ensure that your comments are considered, we must receive them on or before January 22, 2018.

ADDRESSES: You may submit comments on this information collection to the Information Collection Clearance Officer, U.S. Geological Survey, 12201 Sunrise Valley Drive MS 159, Reston, VA 20192 (mail); or gs-info_collections@usgs.gov (email). Please reference `Information Collection 1028-0111, The National Map Corps' in all correspondence.

FOR FURTHER INFORMATION CONTACT: Erin Korris, National Geospatial Technical Operations Center, USGS, Denver Federal Center, Box 25046, Mail Stop 510, Denver, CO 80225 (mail); 303-202-4503 (phone); or ekorris@usgs.gov (email). You may also find information about this ICR at www.reginfo.gov.

SUPPLEMENTARY INFORMATION: We, the USGS, in accordance with the Paperwork Reduction Act of 1995, provide the general public and other Federal agencies with an opportunity to comment on proposed, revised, and continuing collections of information. This helps us assess the impact of our information collection requirements and minimize the public's reporting burden. It also helps the public understand our information collection requirements and provide the requested data in the desired format.

We are soliciting comments on the proposed IC that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this IC. Before including your address, phone number, email address, or other personal identifying information in your comment, please be aware that your entire comment—including your personal identifying information—may be made publicly available at any time. While you may ask us in your comment to withhold your personal identifying information from public review, we cannot guarantee that we will be able to do so.

Abstract: The National Map Corps (TNMCorps) is the name of the U.S. Geological Survey (USGS) National Geospatial Program (NGP) project that encourages citizen participation in volunteer map data collection activities. TNMCorps uses crowdsourcing—new technologies and Internet services to georeference structure points and share this information with others on map-based Internet platforms—to produce volunteered geographic information (VGI). People participating in the crowd sourcing will be considered part of the TNMCorps.

In general, the National Structures Dataset (NSD) has been populated with the best available national data. This data has been exposed for initial improvement by TNMCorps volunteers via the online Map Editor (the instrument). In addition, the data goes through a tiered-editing process, which includes Peer Review and Advanced Editors. At each stage the data is passed through an automatic “magic filter” to look for data issues before being submitted into the NSD. In addition data goes through sampling for quality assurance procedures.

Once part of the NSD, the data are then available to the USGS and to the public at no cost via The National Map and ultimately US Topo.

Data quality studies in 2012 and 2014 showed that the volunteers' actions were accurate and exceeded USGS quality standards. Volunteer-collected data showed an improvement in both location and attribute accuracy for existing data points. Completeness, or the extent to which all appropriate features were identified and recorded, was also improved.

Title of Collection: The National Map Corps—Volunteered Geographic Information Project.

OMB Control Number: 1028-0111.

Form Number: NA.

Type of Request: Extension of currently approved collection.

Affected Public: General Public.

Respondent's Obligation: None. Participation is voluntary.

Frequency of Collection: Intermittent, with an estimated 840 participants annually.

Estimated Total Number of Annual Responses: 100,000.

Estimated Time per Response: 12 minutes.

Estimated Annual Burden Hours: 20,000.

Estimated Reporting and Recordkeeping “Non-Hour Cost” Burden: There are no “non-hour cost” burdens associated with this IC.

An agency may not conduct or sponsor and a person is not required to respond to a collection of information unless it displays a currently valid OMB control number.

The authorities for this action are the Paperwork Reduction Act of 1995 (44 U.S.C. 3501, et seq.).

Kari Craun,
Director, National Geospatial Technical, Operations Center, U.S. Geological Survey.

[FR Doc. 2017-25148 Filed 11-20-17; 8:45 am]

BILLING CODE 4338-11-P